DEPARTMENT OF COMMERCE

National Institute of Standards and Technology

National Conference on Weights and Measures 102nd Annual Meeting

AGENCY: National Institute of Standards and Technology, Commerce.

ACTION: Notice.

SUMMARY: The 102nd Annual Meeting of the National Conference on Weights and Measures (NCWM) will be held in Pittsburgh, Pennsylvania, from Sunday, July 16, 2017, through Thursday, July 20, 2017. This notice contains information about significant items on the NCWM Committee agendas but does not include all agenda items. As a result, the items are not consecutively numbered.

DATES: The meeting will be held on Sunday, July 15, 2017, through Wednesday, July 19, 2017, from 8:00 a.m. to 5:00 p.m. Eastern Time, and on Thursday, July 20, 2017, from 9:00 a.m. to 12:00 p.m. Eastern Time. The meeting schedule is available at www.ncwm.net.

ADDRESSES: This meeting will be held at the Omni William Penn Hotel, 530 William Penn Place, Pittsburgh, Pennsylvania 15219.

FOR FURTHER INFORMATION, CONTACT: Dr. Douglas Olson, NIST, Office of Weights and Measures, 100 Bureau Drive, Stop 2600, Gaithersburg, MD 20899-2600. You may also contact Dr. Olson at (301) 975-2956 or by email at douglas.olson@nist.gov. The meeting is open to the public, but a paid registration is required. Please see the NCWM Web site (www.ncwm.net) to view the meeting agendas, registration forms, and hotel reservation information.

SUPPLEMENTARY INFORMATION: Publication of this notice on the NCWM's behalf is undertaken as a public service; NIST does not endorse, approve, or recommend any of the proposals or other information contained in this notice or in publications produced by the NCWM.

The NCWM is an organization of weights and measures officials of the states, counties, and cities of the United States, and representatives from the private sector and federal agencies. These meetings bring together government officials and representatives of business, industry, trade associations, and consumer organizations on subjects related to the field of weights and measures technology, administration, and enforcement. NIST participates to encourage cooperation between federal agencies and the states in the development of legal metrology requirements. NIST also promotes uniformity in state laws, regulations, and testing procedures used in the regulatory control of commercial weighing and measuring devices, packaged goods, and for other trade and commerce issues.

The NCWM has established multiple committees, task groups, and other working bodies to address legal metrology issues of interest to regulatory officials, industry, consumers, and others. The following are brief descriptions of some of the significant agenda items that will be considered by some of the NCWM Committees at the NCWM Annual Meeting. Comments will be taken on these and other issues during public comment sessions. This meeting also includes work sessions in which the Committees may also accept comments for clarification on issues, and where they will finalize recommendations for possible adoption at this meeting. The Committees may also withdraw or carry over items that need additional development.

These notices are intended to make interested parties aware of these development projects and to make them aware that reports on the status of the project will be given at the Annual Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices.” Those items address weighing and measuring devices used in commercial applications, that is, devices used to buy from or sell to the public or used for determining the quantity of products or services sold among businesses. Issues on the agenda of the NCWM Laws and Regulations Committee (L&R Committee) relate to proposals to amend NIST Handbook 130, “Uniform Laws and Regulations in the Areas of Legal Metrology and Engine Fuel Quality” and NIST Handbook 133, “Checking the Net Contents of Packaged Goods.”

NCWM S&T Committee

The following items are proposals to amend NIST Handbook 44:

Scales

Item 3200-2 S.1.2.2. Verification Scale Interval

Scales Code Paragraph S.1.2.2. Verification Scale Interval currently requires any Class I and II scale and dynamic monorail scale provided with a scale division value (d) that differs from the verification scale interval (e), to comply with the expression: d < e ≤ 10 d.

The S&T Committee will consider a proposal that adds a new subparagraph beneath the Section heading “S.1.2.2. Verification Scale Interval” which would require the value of the displayed scale division “d” to be equal to the value of the verification scale interval “e” on Class I and II scales used in a direct sale application (i.e., an application in which both parties, for example, buyer and seller, are present when the quantity is determined). The new subparagraph being proposed is nonretroactive with a proposed enforcement date of January 1, 2020, making evident the submitter's intention that it not apply to equipment already in commercial service.

Item 3200-3 S.1.8.5. Recorded Representations, Point-of-Sale Systems and S.1.9.3. Recorded Representations, Random Weight Packages Labels

The S&T Committee will consider a proposal requiring additional sales information be recorded by cash registers interfaced with a weighing element for items that are weighed at a checkout stand. These systems are currently required to record the net weight, unit price, total price, and the product class or, in a system equipped with price look-up capability, the product name or code number. The change proposed adds “tare weight” to the list of sales information already required.

Weigh-In-Motion Systems Used for Vehicle Enforcement Screening

tem 3205-1 A. Application and Sections Throughout the Code To Address Commercial and Law Enforcement Applications

In February 2016, the NCWM formed a new task group (TG) to consider a proposal to expand the NIST Handbook 44, Weigh-In-Motion (WIM) Systems Used for Vehicle Enforcement Screening—Tentative Code to also apply to legal-for-trade (commercial) and law enforcement applications. The TG is made up of representatives of WIM equipment manufacturers; the U.S. Department of Transportation Federal Highway Administration; truck weight enforcement agencies; state weights and measures agencies; and others. Mr. Alan Walker (State of Florida) serves as Chair of the TG. The Work Group formed by the U.S. Department of Transportation—Federal Highway Administration that developed the existing NIST Handbook 44 Code titled, “Weigh-In-Motion Systems Used for Vehicle Enforcement Screening—Tentative Code,” disbanded shortly following the adoption of that tentative code by the NCWM in 2015.

Members of the TG met face to face for the first time at the NCWM Annual Meeting in July 2016. It was agreed at that meeting to eliminate from the proposal any mention of a law enforcement application and focus solely on WIM systems intended for use in commercial applications. The primary focus of the TG since the July 2016 meeting has been to concentrate on the development of test procedures that can be used to verify the accuracy of a slow-speed WIM system while taking into consideration the different axle and tandem axle configurations of the vehicles that will typically be weighed by the system.

Liquefied Petroleum Gas and Anhydrous Ammonia Liquid-Measuring Devices

Item 3302-1 N.3. Test Drafts

The S&T Committee will consider a proposal recognizing the use of calibrated transfer standards (also called “master meters”) in the verification and calibration of Liquefied Petroleum Gas and Anhydrous Ammonia Liquid-Measuring Devices. Currently, most official tests of these devices are conducted using volumetric proving methods. The proposal outlined in this item includes requirements for a minimum test draft when using “master meters” in both service-related and official testing.

Mass Flow Meters

Item 3307-2 N.3. Test Drafts

The S&T Committee will consider a proposal recognizing the use of calibrated transfer standards (also called “master meters”) in the verification and calibration of Mass Flow Meters. Currently, most official tests of these devices are conducted using gravimetric test procedures. The proposal outlined in this item includes requirements for a minimum test draft when using “master meters” in both service-related and official testing.

Taximeters and Transportation Network Measuring Systems

The NCWM will consider proposed changes to existing NIST Handbook 44, Code Section 5.54. Taximeters and the addition of a new tentative code to address “Transportation Network Systems” in the following items.

Taximeters

Item 3504-1 A.2. Exemptions

Item 3504-2 U.S. National Work Group (USNWG) on Taximeters—Taximeter Code Revisions and Global Positioning System (GPS)-Based Systems for Time and Distance Measurement

Transportation Network Systems (New Tentative Code): Item 3600-6 5.XX

Transportation Network Measurement Systems—Tentative Code and Appendix D. Definitions

For several years, the NIST U.S. National Work Group (USNWG) on Taximeters has discussed possible approaches for amending the NIST Handbook 44, Taximeters Code to specifically recognize GPS-based time and distance measuring systems that are used to assess charges for transportation services such as those provided by taxicabs. Appropriate specifications, tolerances, and other technical requirements for these devices must be developed for manufacturers and users of these devices, as well for weights and measures officials. Such requirements help ensure accuracy and transparency for customers and a level playing field for transportation service companies, enabling consumers to make value comparisons between competing services. In 2016, the USNWG on Taximeters submitted a proposal through multiple regional weights and measures associations to establish a separate NIST Handbook 44 code to address “Transportation Network Measurement Systems (TNMS).” Changes to the current NIST Handbook 44, Taximeters Code have also been proposed by the USNWG to recognize taximeters that are now being designed to operate using similar features and functionality as TNMS; these changes have been proposed in a separate item. The S&T Committee will present these proposals for a vote at the upcoming 2017 NCWM Annual Meeting.

NCWM L&R Committee

The following items are proposals to amend NIST Handbook 130 or NIST Handbook 133:

NIST Handbook 130—Section on Uniform Regulation for the Method of Sale of Commodities

Item 2301-6 Section 2.17. Precious Metals

The L&R Committee is recommending adoption of a revision to the uniform method of sale for precious metals that will enhance the ability of consumers to know whether they are getting a fair price for their precious metals. This proposal will allow a consumer to make an informed decision in doing an equitable trade or purchase and make value comparisons. This proposal is not for precious metals traded on the commodity market. If adopted, the proposal will require sellers to prominently display a table indicating grams and ounces, percentage of metal in mixtures, unit price, and if selling by SI a conversion chart to troy ounces.

NIST Handbook 133

Item 2600-4 Section 4.5. Polyethylene Sheeting

The current test procedure in NIST Handbook 133, Section 4. Polyethylene Sheeting has provided a test procedure for only polyethylene sheeting and some bag type products. The L&R Committee is recommending for adoption a proposal to expand the current requirements to also include polyethylene bags (e.g., t-shirt bags, which retail stores put consumer goods in for carry-out) and can liners. If adopted, this proposal would clarify the test procedure and improve the accuracy of length determinations when determining test measurements for bags and liners, including bags with a cut out (t-shirt bags).

Authority: 15 U.S.C. 272(b).

Dated: May 12, 2017.
Kevin Kimball,
Chief of Staff.

[FR Doc. 2017-09990 Filed 5-16-17; 8:45 am]

BILLING CODE 3510-13-P